DEPARTMENT OF AGRICULTURE

Agricultural Research Service

Notice of Intent To Seek Approval To Collect Information

AGENCY: USDA, Agricultural Research Service, National Agricultural Library.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for new information collection relating to the information needs of Library customers and potential customers, and customers' satisfaction with current Library services. This voluntary survey gives current and potential customers the opportunity to provide feedback that will assist Library staff in revising current services or creating new ones to meet customers' information needs more effectively.

DATES: Comments on this notice must be received by June 1, 2005 to be assured of consideration.

ADDRESSES: Address all comments concerning this notice to Mary Ann Leonard, Special Projects Coordinator, Information Research Services Branch, National Agricultural Library, 10301 Baltimore Avenue, Beltsville, MD, 20705-2351, telephone (301) 504-6500 or fax (301) 504-6409. Submit electronic comments to leonard@nal.usda.gov.

SUPPLEMENTARY INFORMATION: Title: National Agricultural Library Information Needs Assessment.

OMB Number: PRA#.

Expiration Date: Three years from date of approval.

Type of Request: New data collection from customers and potential customers of the National Agricultural Library.

Abstract: Executive Order 12862 seeks to establish high quality customer service standards within all federal agencies that provide significant services directly to the public. The National Agricultural Library (NAL) is one such agency, mandated by the Farm Bill of 1990 to serve as the primary agricultural resource of the United States. In that role, NAL is called upon to provide agricultural information and information products to a variety of customers, including the Federal Government, public and private organizations, and individuals, within the United States and internationally. Therefore, in compliance with Executive Order 12862, it seeks to issue a survey to identify the customers it already serves, as well as those it should be serving; to determine the kind and quality of services they want; and to assess their level of satisfaction with existing services. The results of this survey will then be used to evaluate institutional performance, reform management practices, and reallocate resources to services in line with customer needs and expectations. If the information is not collected, NAL will be hindered from advancing its mandate to provide accurate, timely and easily accessible agricultural information to its customers.

The entire information collection process will be conducted electronically. NAL will store its customer survey on a Web server. It will then invite customers and potential customers to take the survey via a broadly distributed email invitation. This invitation will include a link to the survey, where customers will answer the questions using pull-down menus, checkboxes, or radio buttons.

Estimate of Burden: Public reporting burden for this collection of information is estimated to average 15 minutes per respondent.

Respondents: Individuals or households; Business or other for-profit institutions; Not-for-profit institutions; Farms; Federal Government; State, local or tribal governments.

Estimated Number of Respondents: 5,000.

Estimated Total Annual Burden on Respondents: 1,250 hours.

Comments: Comments are invited on (a) whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: March 11, 2005.
Edward B. Knipling,
Administrator for Agricultural Research Service.

[FR Doc. 05-6026 Filed 3-25-05; 8:45 am]

BILLING CODE 3410-03-P